DEPARTMENT OF HEALTH AND HUMAN SERVICES

Administration for Children and Families

Office of Child Support Enforcement

Funding Opportunity Title: Office of Child Support Enforcement's Special Improvement Project (SIP) Grants.

Announcement Type: Initial.

Funding Opportunity Number: HHS-2004-ACF-OCSE-SIP-0001.

CFDA Number: 93.601.

Due Date for Applications: March 3, 2004.

SUMMARY: The Administration for Children and Families (ACF), Office of Child Support Enforcement (OCSE) invites eligible applicants to submit competitive grant applications for special improvement projects which further the national child support mission, vision, and goals which are: All children to have parentage established; all children in IV-D cases to have financial and medical orders; and all children in IV—D cases to receive financial and medical support. For FY 2004, we are looking for projects in which a variety of partners, which may include community and faith-based organizations, collaborate as appropriate. Applications will be screened and evaluated as indicated in this program announcement. Awards will be contingent on the outcomes of the competition and the availability of funds. For FY 2004, approximately $1.5 million is available for all priority areas. A non-Federal match is not required. The anticipated start date for the new awards is May 1, 2004; projects may go through September 30, 2005, for a period of up to 17 months.

I. Funding Opportunity Description

Legislative Authority. Section 452(j) of the Social Security Act, 42 U.S.C. 652(j), provides Federal funds for information dissemination and technical assistance to States, and training of Federal and State staff to improve child support programs and research and demonstration programs and special projects of regional or national significance relating to the operation of State child support enforcement programs.

Program Purpose and Objectives. To fund a number of special improvement projects which further the national child support mission to ensure that all children receive financial and medical support from their parents and which strengthens the ability of the nation's child support program to collect support on behalf of children and families. For FY 2004, we are looking for innovative projects to improve child support program performance and in which new partners collaborate so we can produce greater impacts on child support outcomes (e.g., increasing the establishment of child support orders and child support collections). We invite partnerships, such as courts/tribunals and community- and faith-based organizations, that can address the needs of harder-to-serve populations, such as low-income non-custodial fathers and culturally diverse populations to apply for these projects.

Applicants should understand that OCSE will not award grants for special improvement projects which (a) Duplicate automated data processing and information retrieval system requirements/enhancements and associated tasks which are specified in the Social Security Act; or (b) which cover costs for routine activities which would normally be reimbursed under the Child Support Program (e.g. adding staff positions to perform routine CSE tasks), or by other Federal funding sources. Proposals and their accompanying budgets will be reviewed from this perspective.

Priority Areas:

Priority Area 1: Improving the Judicial/Administrative Processing of Child Support Enforcement Case Activities

OCSE is looking for projects that would expedite and facilitate courts'/tribunals' processing of child support case actions. In many states, courts/tribunals play a key role in establishing, modifying, or enforcing child support orders. In these jurisdictions, courts/tribunals may find that current rules, practices, or procedures create obstacles to more timely and equitable processing of child support cases. For example, courts/tribunals may require the physical presence of the parents at hearings; may accept only an official employer/corporate verification of earnings statements as evidence of income; or require a formal hearing or otherwise impose procedural obstacles to allowing deviations from guidelines to determine support orders. Under this solicitation, we are looking for projects that would address at least one of the following design elements:

• Design and implement new practices or procedures that enable courts/tribunals to remove barriers to participation in Title IV-D child support proceedings such as requiring the physical presence of the parents at hearings and other legal proceedings. Projects would demonstrate the effectiveness of using more flexible approaches, such as allowing telephone or videoconference hearings when it is difficult for a parent to personally attend a hearing due to distance, health, or other reasons. Projects might show how courts/tribunals can overcome legal and other obstacles to holding telephone hearings, using facsimile machines to transmit evidence, etc., and how other jurisdictions can adapt similar procedures. Possible outcomes include improved customer service; timelier case processing; reduction in continuances, default orders, and use of imputed income; increased collections; and reduction in arrears, especially in interstate cases.

• Develop and implement procedures that could demonstrate the effectiveness of courts' use of Federal or State-certified information from the Federal or State Parent Locator Services (FPLS/SPLS) in Title IV-D cases, including New Hire information, to establish or modify child support orders. These projects would show how courts/tribunals that allow use of SPLS/FPLS data certified by a child support agency, rather than by an employer, overcome evidentiary or other obstacles to the use of such data. The projects should be designed to assist courts/tribunals or other relevant decision makers to develop and/or implement changes necessary to promote the effective and efficient use of FPLS/SPLS information in the establishment or modification of orders. The projects should show how removing obstacles, such as the requirement of employer/corporate verification of earnings, would lead to improved program performance or customer service, including expedited establishment/modification of child support orders; increased number of orders established; reduced use of imputed income; decreased accrual of arrears; increased collections; and/or increased cost-effectiveness.

• Develop and implement revised criteria, as established by the State, and guidance allowing judicial or administrative personnel greater authority to deviate from State child support order guidelines without a hearing. Projects would demonstrate the benefits of having greater discretionary guidance in this area. For example, such discretion may be warranted when application of the guidelines is considered unjust or inappropriate, such as in cases involving excessive health care costs, child care or education costs or multiple non-custodial parent families. These projects should be designed to assist other jurisdictions to adapt similar discretionary guidance and categories and to show that providing this type of discretion would improve program performance or customer service, including expedited case processing, increased collections, reduction of arrears and/or increased cost-effectiveness. Proposals must be consistent with section 467 of the Social Security Act which governs the application of State child support guidelines.

Funding: A total $200,000 is anticipated to be available for projects in this priority area and OCSE anticipates funding two grants of approximately $100,000 each.

Budget Period: For Priority Area 1, the budget period will be up to 17 months.

Priority Area 2: Educating Public on Parental Responsibilities and Promoting Healthy Marriage

The purpose of this solicitation is to educate the public about child support enforcement tools and parental obligations with the aim of increasing paternity establishment, child support payment, or healthy marriages for unwed parents, reducing out-of wedlock births for older teens and young adults who are not parents. We are looking for projects which educate the public on their parental responsibilities and about strictly enforced child support enforcement policies if they have a child outside of marriage or if they separate or divorce. Since many States have already developed outreach videos or materials, we are not looking for projects to develop these tools. Projects would use child support workers to educate low-income, unwed parents, or older teens and young adults who are not parents, about child support enforcement policies and parental financial responsibilities when a child is born outside of marriage or a marriage breaks up. Research also generally suggests that strong child support enforcement encourages families to form, stay together, or avoid conceiving a child out of wedlock. In addition, many unwed parents, especially at the time of their child's birth may be thinking about the possibility of marriage. However, they may lack knowledge about and understanding of the importance of child support, family stability, and healthy marriage in the lives of their children. OCSE envisions that child support workers would provide information to unwed couples at pre-natal clinics, hospitals, faith-based and community-based organizations, etc. Projects might also coordinate with schools, community-based and faith-based organizations where older teens and young adults congregate in the community. The presentations would cover current automated enforcement tools such as automated wage withholding, tax offset, and driver's license suspension, to enhance the public's understanding of current child support enforcement mechanisms as well as the financial and emotional impact of having children outside of marriage. We expect that people hearing about the child support enforcement program from the workers who have first-hand knowledge of parents' child support concerns should help reinforce for parents who may be considering marriage, the benefits of healthy marriage, or help persuade others not to conceive children outside of marriage.

Funding: A total $200,000 is anticipated to be available for projects in this priority area and OCSE anticipates funding two grants of approximately $100,000 each.

Budget Period: For Priority Area 2, the budget period will be up to 17 months.

Priority Area 3: Encouraging More Timely and Appropriate Order Modifications

Projects would develop guidelines/procedures for modifying child support orders in a more timely and efficient manner. Under section 467 of the Social Security Act, states must review orders every three years at the request of either parent, or at the request of the state child support agency. In addition to using cost-of-living adjustments (COLA) that alter orders periodically without reviews, States can also use automated methods to identify orders eligible for review and to apply the appropriate adjustments to the orders.

In 1997, OCSE funded a research and demonstration grant to the State of Alaska Department of Revenue Child Support Enforcement Division (CSED) to develop and test a more efficient method of reviewing and adjusting child support award amounts. The project, “Alaska: Review and Adjustment of Child Support Order Amounts: Evaluation of Electronic Modification (ELMO),” used income information from automated sources, such as the National Directory of New Hires (NDNH), linked electronically to its child support system to review child support orders annually. Promising results from this project include an increased number of reviews, more timely reviews, and modifications which more accurately reflect the noncustodial parents' ability to pay.

Under this solicitation, OCSE is looking for additional demonstration projects which States can conduct under current State law. These projects would demonstrate the feasibility of automating the review and adjustment process, using a variety of data sources including FPLS/New Hire earnings data, to better reflect current noncustodial/custodial parent income and assets (i.e., at the time when noncustodial/custodial parent gets a raise or has increased assets and, alternatively, when noncustodial/custodial parent loses a job, has reduced salary, has an excessive default order, etc.) Projects would assess outcomes or effects such as the increase in both upward and downward adjustments; payment frequency by noncustodial parent; reduction in arrearage growth created by default orders; systems enhancements and other resources needed; guideline changes; and overall cost-effectiveness of automated review and adjustment.

Funding: A total $200,000 is anticipated to be available for projects in this priority area and OCSE anticipates funding two grants of approximately $100,000 each.

Budget Period: For Priority Area 3, the budget period will be up to 17 months.

Priority Area 4: Expanding Customer Service Through Agency-Initiated Contact

Under this solicitation, OCSE is looking for child support agencies to initiate customer contact to alert customers of upcoming appointments or missed appointments, and potential problems, such as missed payments, in order to improve customer satisfaction or resolve issues before they become problematic. Generally, State/local child support agencies use a responsive approach to customers; i.e., using call centers, Web sites, or individual staff to respond to customer inquiries. The Australian child support enforcement system uses an agency-initiated customer service approach in which caseworkers notify clients, rather than waiting for clients to contact the agency, regarding payments and other case matters. This approach has been successful in Australia.

We are looking for child support agency approaches designed to alert customers to important case activities such as scheduled appointments or hearings, payment changes/delays, and to obtain case information. These projects would demonstrate the effectiveness of initiating contact to notify customers of important case activities or the need for information to complete case actions in order to improve child support outcomes such as increased collections, cost-effectiveness, customer service satisfaction, reduction in arrears, missed appointments, etc. Agency-initiated customer contact strategies could include automated notification systems and/or personal staff customer contact. A concern of many child support agencies in initiating client contact is the difficulty in reaching noncustodial and custodial parents by phone, since some do not have stable addresses or phone access. These projects would help determine the feasibility of an agency-initiated approach. Also, we prefer projects that compare different strategies (automation vs. personal contact) to ascertain which is more feasible and cost-effective; and/or projects that could assess the pros and cons of using agency-initiated approaches in different localities such as urban vs. rural localities, or large vs. small offices.

Funding: A total $200,000 is anticipated to be available for projects in this priority area and OCSE anticipates funding two grants of approximately $100,000 each.

Budget Period: For Priority Area 4, the budget period will be up to 17 months.

Priority Area 5: Helping Noncustodial Parents (NCPs) Meet Their Child Support and Family Responsibilities

Projects would demonstrate effective child support strategies to help low-income NCPs meet their child support and family responsibilities. There is a very high rate of default cases where the noncustodial parent is either not appropriately served or simply does not show up for either paternity or child support hearings. As a result, orders are not always appropriate for the NCP's financial situation, or are not based on the NCP's actual income. Further, many low-income NCPs fall behind in their payment of child support due to unemployment or underemployment. This solicitation would address at least one of the following design elements:

• Develop, implement and determine the effectiveness of alternative measures for avoiding default cases, and/or using imputed income/minimum order amounts in establishing child support orders which can create excessive payment levels for low-income NCPs. These alternatives could include adopting more customer-friendly approaches in establishing orders for low-income fathers to avoid a high level of default orders (such as using alternative service of process methods to ensure NCPs get served and understand the notice to avoid defaults); and/or securing and using more complete income information, e.g. using New Hire data for the NCP and custodial parent in default situations or where incomplete income information is given. Order amounts should be reasonable for low-income NCPs, taking into account their ability to pay when confronted with intermittent unemployment. Applicants must provide assurance that, under State guidelines, orders can be established based upon the NCP's ability to pay. We are looking for outcome measures which would demonstrate that effective alternatives for establishing child support orders in low-income cases result in increased payment rates for low-income NCPs.

• Develop and implement strategies to provide employment services to low-income fathers who are unemployed or under-employed and cannot meet their child support obligations. Projects should include voluntary and/or mandatory referral, as appropriate, of NCPs for employment and training services by child support agencies or courts/tribunals, to local workforce development agencies or other public employment agencies and local organizations, including community-based and faith-based organizations. For example, projects could include collaboration with TANF agencies to use TANF funds to support employment and training services for NCPs in public assistance cases to demonstrate whether custodial parents left TANF more quickly because of child support receipt. Incentive to NCPs could be reduction/compromise of arrears. Or, projects could develop partnerships with workforce development boards and courts/tribunals to demonstrate the impact on child support outcomes if unemployed or under-employed NCPs, who had past due child support obligations, were required to participate in a job training/placement program or be sentenced to a period in jail. Outcome measures would include increased payment rates on orders, as well as increases in employment, job retention rates and wages.

Funding: A total $400,000 is anticipated to be available for projects in this priority area and OCSE anticipates funding two grants of approximately $200,000 each.

Budget Period: For Priority Area 5, the budget period will be up to 17 months.

Priority Area 6: Improving Child Support Services for Ethnic and Culturally Diverse Populations

Under this solicitation, projects would target underserved ethnic and culturally diverse populations, including, but not limited to, the Hispanic/Latino community, the Asian-American and Pacific Islander community, the African-American community, and Native Americans, American Indians, and Alaskan Natives so that they may receive more effective child support enforcement services. OCSE has funded several small-scale community projects which developed outreach media campaigns and language-appropriate materials and/or used community and volunteer resources to help these groups better understand the child support program. Under this solicitation, we are looking for projects which are either statewide or serve multiple counties or a large county. We are interested in collaborations between State/local governments and courts/tribunals with community-based and faith-based organizations to offer model service approaches (not outreach campaigns) that will result in large-scale, systematic, institutionalized approaches to service delivery to underserved populations. Projects should identify nature/causes of barriers to effective child support enforcement service delivery for customers with language and diversity barriers and develop/implement approaches to reduce or eliminate them. Such approaches could include providing bilingual staff, resources, training, etc. to judges/attorneys to address the needs of these customers and assure judicial fairness and/or development of new delivery strategies within the community to increase child support outcomes, such as an increase in numbers of orders established and collections. This solicitation is not designed to provide funding for the development and implementation of Tribal child support enforcement programs since these provisions are being addressed through Federal regulation.

Funding: A total $200,000 is anticipated to be available for projects in this priority area and OCSE anticipates funding two grants of approximately $100,000 each.

Budget Period: For Priority Area 6, the budget period will be up to 17 months.

Priority Area 7: Furthering the Child Support Mission to Ensure All Children Receive Financial and Medical Support From Their Parents

Under this announcement, OCSE is looking for projects that are not covered by any of the above priority areas. OCSE is looking for projects that will test new interventions and approaches to increase paternity and support order establishments and collections. Applicants would propose new ways of doing business, within Federal law and regulations, and put them into effect. We encourage collaborations among entities which may include State/local governments, non-profit organizations, faith-based and community-based organizations, and tribal governments and universities (including historically black colleges and universities).

Funding: A total of $100,000 is anticipated to be available for one grant in this priority area.

Budget Period: For Priority Area 7, the budget period will be up to 17 months.

II. Award Information

Availability of Funds. Approximately $1.5 million is available for all priority areas. OCSE expects to award a total of approximately 13 grants, approximately two grants per priority area, ranging from $100,000 to $200,000, as specified under each priority area.

Over the past five years, OCSE has awarded an average of 9 grants per year, totaling approximately $1.3 million per year. All grant awards are subject to the availability of appropriated funds. A non-Federal match is not required. The anticipated start date for the new awards is May 1, 2004; projects may go through September 2005, for a period of up to 17 months.

III. Eligibility Information

1. Eligible Applicants. Eligible applicants for these special improvement project grants are State (including District of Columbia, Guam, Puerto Rico, and the Virgin Islands) Human Services Umbrella agencies, other State agencies (including State IV-D agencies), tribes and tribal organizations, local public agencies (including IV-D agencies), nonprofit organizations (including faith-based and community-based organizations and universities such as historically black colleges and universities) and consortia of State and/or local public agencies. Any non-profit organization submitting an application must submit proof of its non-profit status in its application at the time of submission. The non-profit agency can accomplish this by providing a reference to the applicant organization's listing in the Internal Revenue Service's (IRS) most recent list of tax-exempt organizations described in the IRS Code; a copy of a currently valid IRS tax exemption certificate; a statement from a State taxing body, State attorney general, or other appropriate State official certifying that the applicant organization has a non-profit status and that none of the net earnings accrue to any private shareholders or individuals; a certified copy of the organization's certificate of incorporation or similar document that clearly establishes non-profit status; or any of the items referenced above for a State or national parent organization and a statement signed by the parent organization that the applicant organization is a local non-profit affiliate.

The Federal OCSE will provide the State CSE agency the opportunity to comment on the merits of local CSE agency applications before final award. Given that the purpose of these projects is to improve child support enforcement programs, it is critical that applicants have the cooperation of IV-D agencies to operate these projects. Preference will be given to applicants representing CSE agencies and applicant organizations which have letters of commitment or cooperative agreements with CSE agencies. All applications developed jointly by more than one agency/organization must identify a single lead organization as the official applicant. The lead organization will be the recipient of the grant award. Participating agencies and organizations can be included as co-participants, subgrantees, or subcontractors with their written authorization.

Private non-profit organizations are encouraged to submit with their applications the survey located under “Grant Related Documents and Forms” titled “Survey for Private, Non-Profit Grant Applicants” at www.acf.hhs.gov/programs/ofs/forms.htm.

2. Cost Sharing or Matching. Applicants are not required to match Federal grant funds under this solicitation.

3. Other. None.

IV. Application and Submission Information

1. Address to Request Application Package. Application kits (Forms 424, 424A-B and Certifications) to apply for a grant under this program announcement are available from the Administration for Children and Families, Office of Child Support Enforcement, Division of State, Tribal and Local Assistance, 370 L'Enfant Promenade, SW., 4th Floor, East Wing, Washington, DC 20447 (this is not the mailing address for submission of applications, see Part IV. 3.); or at OCSE's Web site (www.acf.hhs.gov/programs/cse/) under new announcements; or from Jean Robinson, Program Analyst, phone (202) 401-5330, Fax (202) 205-4315; e-mail, jrobinson@acf.hhs.gov.

For specific questions regarding the application or program concerns regarding the announcement, contact: Susan A. Greenblatt, Deputy Director, Division of State, Tribal and Local Assistance, Office of Child Support Enforcement, 370 L'Enfant Promenade, SW., 4th Floor, East Wing, Washington, DC 20447 (this is not the mailing address for submission of applications, see Part IV. 3.); phone (202) 401-4849, e-mail, sgreenblatt@acf.hhs.gov.

2. Content and Form of Application Submission. The applicant should clearly indicate in its application(s) for which specific priority area it is applying. Applicants may submit different applications covering different priority areas or they may submit different applications for different projects under one priority area; however, they may not submit one application for the same project covering multi-priority areas. The length of the application, excluding the application forms, certifications, and resumes, should be about 20 pages, double-spaced format preferred. A page is a single-side of an 8½″ × 11″ sheet of plain white paper. (Applicants are requested not to send pamphlets, maps, brochures or other printed material along with their application as these are difficult to photocopy. These materials, if submitted, will not be included in the review process.) Each page of the application will be counted (excluding required forms, certifications and resumes) to determine the total length. The project description should include all the information requirements described in the specific evaluation criteria outlined in the program announcement under Part V.

In addition to the project description, the applicant needs to complete all the standard forms required for making applications for awards under this announcement. Applicants requesting financial assistance for non-construction projects must file the Standard Form 424B, “Assurances: Non-Construction Programs.” Applicants must sign and return the Standard Form 424B with their applications.

Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form, if applicable, with their applications.

Applicants must make the appropriate certification of their compliance with the Drug-Free Workplace Act of 1988. By signing and submitting the application, the applicant is providing the certification and need not mail back the certification with the application.

Applicants must make the appropriate certification that they are not presently debarred, suspended or otherwise ineligible for an award. By signing and submitting the application, the applicant is providing the certification and need not mail back the certification with the application.

The forms (Forms 424, 424A-B; and Certifications including Certification Regarding Lobbying; Debarment, Suspension, etc.; Drug Free Workplace and Environmental Tobacco Smoke) may be found at: www.acf.hhs.gov/programs/cse/ under new announcements.

Private non-profit organizations are encouraged to submit with their applications the survey located under “Grant Related Documents and Forms” titled “Survey for Private, Non-Profit Grant Applicants” at www.acf.hhs.gov/programs/ofs/forms.htm.

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may require a DUNS number at no cost by calling the dedicated toll-free DUNS number request line on 1-866-705-5711 or you may request a number on-line at http://www.dnb.com.

The Paperwork Reduction Act of 1995 (Pub. L. 104-13): All information collections within this program announcement are approved under the following currently valid OMB control number: OMB control number 0970-0139 which expires on 12/31/2003. Public reporting burden for this collection of information is estimated to average 20 hours per response, including the time for reviewing instructions, gathering and maintaining the data needed, and reviewing the collection of information. An agency may not conduct or sponsor, and a person is not required to respond to, a collection of information unless it displays a currently valid OMB control number.

3. Submission Dates and Times. Due date: March 3, 2004. See section IV.6 for more detailed information on submission requirements.

What to submit | Required content | Required form or format | When to submit
Table of Contents | As described above | Consistent with guidance in “Application Format” section of this announcement | By application due date.
Abstract of Proposed Project | Brief abstract that identifies the type of project, the target population and the major elements of the proposed project | Consistent with guidance in “Application Format” section of this announcement | By application due date.
Completed Standard Form 424 | As described above and per required form | May be found on http://www.acf.hhs.gov/programs/ofs/forms.htm | By application due date.
Completed Standard Form 424A | As described above and per required form | May be found on http://www.acf.hhs.gov/programs/ofs/forms.htm | By application due date.
Narrative Budget Justification | As described above | Consistent with guidance in “Application Format” section of this announcement | By application due date.
Project Narrative | A narrative that addresses issues described in the “Application Review Information” and the “Review and Selection Criteria” sections of this announcement | Consistent with guidance in “Application Format” section of this announcement | By application due date.
Certification regarding lobbying | As described above and per required form | May be found on http://www.acf.hhs.gov/programs/ofs/forms.htm | By application due date.
Certification regarding drug-free workplace | As described above and per required form | May be found on http://www.acf.hhs.gov/programs/ofs/forms.htm | By application due date.
Certification regarding environmental tobacco smoke | As described above and per required form | May be found on http://www.acf.hhs.gov/programs/ofs/forms.htm | By application due date.
Certification regarding debarment, suspension or ineligibility | As described above and per required form | May be found on http://www.acf.hhs.gov/programs/ofs/forms.htm | By application due date.
Certification regarding non-construction programs | As described above and per required form | May be found on http://www.acf.hhs.gov/programs/ofs/forms.htm | By application due date.

4. Intergovernmental Review. This program is covered under Executive Order 12372, “Intergovernmental Review of Federal Programs,” and 45 CFR part 100, “Intergovernmental Review of Department of Health and Human Services Programs and Activities.” Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, American Samoa and Palau have elected to participate in the Executive Order process and have established Single Points of Contact (SPOCs). Applicants from these 28 jurisdictions need take no action regarding E.O. 12372. Applicants for projects to be administered by federally-recognized Indian tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or indicate “not applicable” if no submittal is required) on the Standard Form 424, item 16a.

Under 45 CFR 100.8(a)(2), a SPOC has 60 days from the application deadline to comment on proposed new or competing continuation awards.

SPOCSs are encouraged to eliminate the submission of routine endorsements as official recommendations.

Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

A list of the Single Points of Contact for each participating State and Territory can be found on the Web at: http://www.whitehouse.gov/omb/grants/spoc.html.

5. Funding Restrictions. Construction is not an allowable activity or expenditure under this solicitation. Grant awards will not allow reimbursement of pre-award costs.

6. Other Submission Requirements. Applicants may choose to mail applications or have them hand-delivered. The closing time and date for the receipt of applications is 4:30 p.m. (eastern time zone), March 3, 2004. Mailed or hand-delivered applications received after 4:30 p.m. on the closing date will be classified as late.

Deadline: Mailed applications shall be considered as meeting an announced deadline if they are received on or before the deadline time and date at the U.S. Department of Health and Human Services, Administration for Children and Families, Office of Grants Management, Division of Discretionary Grants, 370 L'Enfant Promenade, SW., Washington, DC 20447, between Monday and Friday (excluding Federal holidays). This address must appear on the envelop/package containing the application with the note “Attention: Barbara Ziegler Johnson.” Applicants are cautioned that express/overnight mail services do not always deliver as agreed.

Applicants are responsible for mailing applications well in advance to ensure that the application is received on or before the deadline date and time. Applicants should submit a signed original and two copies of the complete application package and submit it as follows:

Mail applications to: Administration for Children and Families, Office of Grants Management, Division of Discretionary Grants, 370 L'Enfant Promenade, SW., 4th Floor West, Washington, DC 20447. Attn: Barbara Ziegler Johnson, SIP Application.

Hand-delivered applications to: Applications should be hand delivered, between the hours of 8 a.m. and 4:30 p.m., e.s.t., addressed to the U.S. Department of Health and Human Services, Administration for Children and Families, Office of Grants Management, Division of Discretionary Grants, Attention: Barbara Ziegler Johnson, SIP Application, and delivered at ACF Mailroom, 2nd Floor (near loading dock), Aerospace Building, 901 D Street, SW., Washington, DC 20024, between Monday and Friday (excluding Federal holidays). This address must appear on the envelope/package containing the application. ACF will not send applicants an acknowledgement of receipt for applications received during the application period.

Questions may be directed to: Barbara Ziegler Johnson, Office of Grants Management, Division of Discretionary Grants, Administration for Children and Families, 370 L'Enfant Promenade, SW., 4th Floor West, Washington, DC 20447; (202) 401-4646, bziegler-johns1@acf.hhs.gov.

Late applications: Applications that do not meet the criteria above are considered late applications. ACF shall notify each late applicant that its application will not be considered in the current competition.

Any application received after 4:30 p.m. on the deadline date will not be considered for competition. Applicants using express/overnight mail services should allow two working days prior to the deadline date for receipt of applications. (Applicants are cautioned that express/overnight mail services do not always deliver as agreed.)

Extension of deadlines: ACF may extend an application deadline when circumstances such as acts of God (floods, hurricanes, etc.) occur, or when there are widespread disruptions of the mail service, or in other rare cases. A determination to extend or waive deadline requirements rests with ACF's Chief Grants Management Officer.

ACF cannot accommodate transmission of applications by fax. Therefore, applications transmitted to ACF by fax will not be accepted regardless of date or time of submission and time of receipt.

You may submit your application to us in either electronic or paper format. To submit an application electronically, please use the www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov

• We may request that you provide original signatures on forms at a later date.

• You may access the electronic application for this program on www.Grants.gov

• You must search for the downloadable application package by the CFDA number.

V. Application Review Information

Instruction: The project description is approved under OMB control number 0970-0139 which expires 12/31/2003. An agency may not conduct or sponsor, and a person is not required to respond to, a collection of information unless it displays a currently valid OMB control number. Uniform Project Description (UPD) elements to be included in the project description are:

Purpose

The project description provides a major means by which an application is evaluated and ranked to compete with other applications for available assistance. The project description should be concise and complete and should address the activity for which Federal funds are being requested. Supporting documents should be included where they can present information clearly and succinctly. In preparing your project description, all information requested through each specific evaluation criterion should be provided. Awarding offices use this and other information in making their funding recommendations. It is important, therefore, that this information be included in the application.

Introduction

Applicants are required to submit a full project description and shall prepare the project description statement in accordance with the instructions and the specified evaluation criteria in the sections below. The instructions give a broad overview of what your project description should include while the evaluation criteria expand and clarify more program-specific information that is needed.

Project Summary Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, increased use of an interstate child support enforcement remedy (such as income withholding, tax refund offset) is projected to have quarterly results of a 5% increase in income withholding collections and a 5% increase in automated enforcement collections. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

Staff and Position Data

Provide a biographical sketch for each key person appointed and a job description for each vacant key position. A biographical sketch will also be required for new key staff as appointed.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Budget and Budget Justification

Provide line item detail and detailed calculations for each budget object class identified on the Budget Information Form. Detailed calculations must include estimation methods, quantities, unit costs, and other similar quantitative detail sufficient for the calculation to be duplicated. Provide a narrative budget justification that describes how the categorical costs are derived. Discuss the necessity, reasonableness and allocability of the proposed costs.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or business to be financed by the applicant.

1. Evaluation Criteria. Proposed projects will be reviewed using the following evaluation criteria:

Criterion I: Objectives and Need for Assistance (Maximum 30 points)

The application should demonstrate a thorough understanding and analysis of the problem(s) being addressed in the project, the need for assistance and the importance of addressing these problems in improving the effectiveness of the child support program. The applicant should describe how the project will address this problem(s) through implementation of changes, enhancements and innovative efforts and specifically, how this project will improve program results. The applicant should address one or more of the activities listed under the “Design Elements in the Application” described above for the specific priority area they are applying for (refer to Part I. Priority Areas). The applicant should identify the key goals and objectives of the project; describe the conceptual framework of its approach to resolve the identified problem(s); and provide a rationale for taking this approach as opposed to others.

Criterion II: Approach (Maximum: 30 points)

A well thought-out and practical management and staffing plan is mandatory. The application should include a detailed management plan that includes time-lines and detailed budgetary information. The main concern in this criterion is that the applicant should demonstrate a clear idea of the project's goals, objectives, and tasks to be accomplished. The plan to accomplish the goals and tasks should be set forth in a logical framework. The plan should identify what tasks are required of any contractors and specify their relevant qualifications to perform these tasks. Staff to be committed to the project (including supervisory and management staff) at the state and/or local levels must be identified by their role in the project along with their qualifications and areas of particular expertise. In addition, for any technical expertise obtained through a contract or subgrant, the desired technical expertise and skills of proposed positions should be specified in detail. The applicant should demonstrate that the skills needed to operate the project are either on board or can be obtained in a reasonable time.

Criterion III: Evaluation (Maximum 25 points)

The application describes how the success of this project can be measured and how the success of this project has broader application in contributing to child support enforcement policies, practices, and/or providing solutions that could be adapted by other states/jurisdictions. The application describes the specific results/products that will be achieved; as appropriate, identifies the kinds of data to be collected and maintained; describes procedures for informed consent of participants, where applicable, and discusses the criteria to be used to evaluate the results of the project. The application describes the evaluation methodology to be used to determine if the process proposed was implemented and if the project goals/objectives were achieved. Sound evaluations to determine whether or not project goals have been realized are of importance to child support enforcement policy makers and administrators. Thus, the proposal should include a process evaluation component and comparison of before/and after the project site(s)' experience, as appropriate, to demonstrate the results achieved.

Criterion IV: Budget and Budget Justification (Maximum 10 points)

The project costs need to be reasonable in relation to the identified tasks, including the evaluation component. A detailed budget (e.g., the staff required, equipment and facilities that would be leased or purchased) should be provided identifying all agency and other resources (i.e., State, community, or other programs such as TANF or Head Start) that will be committed to the project. Grant funds cannot be used for capital improvements or the purchase of land or buildings. Explain why this project's resource requirements cannot be met by the State/local agency's regular program operating budget.

Criterion V: Preferences (Maximum 5 points)

Preference will be given to those grant applicants representing IV-D agencies and applicant organizations who have documented IV-D agency commitment to the project, either through a cooperative agreement or letter of commitment, which needs to be signed and attached to the application.

2. Review and Selection Process. Each application submitted under this program announcement will undergo a pre-review to determine that (1) The application was received by the closing date and submitted in accordance with the instructions in this announcement and (2) the applicant is eligible for funding. It is necessary that applicants state specifically which priority area they are applying for. Applications will be screened for priority area appropriateness. If applications are found to be inappropriate for the priority area in which they are submitted, applicants will be contacted for verbal approval of redirection to a more appropriate priority area.

Applications which pass the initial ACF screening will be evaluated and rated by an independent review panel on the basis of specific evaluation criteria. The results of these reviews will assist the Commissioner and OCSE program staff in considering competing applications. Reviewers' scores will weigh heavily in funding decisions but will not be the only factors considered. Applications generally will be considered in order of the average scores assigned by reviewers. However, highly ranked applications are not guaranteed funding because other factors are taken into consideration. These include, but are not limited to, the number of similar types of existing grants or projects funded with OCSE funds in the last five years; comments of reviewers and government officials; staff evaluation and input; geographic distribution; previous program performance of applicants; compliance with grant terms under previous DHHS grants; audit reports; investigative reports; an applicant's progress in resolving any final audit disallowance on previous OCSE or other Federal agency grants. OCSE will consider the geographic distribution of funds among States and the relative proportion of funding among rural and urban areas. The evaluation criteria were designed to assess the quality of a proposed project, and to determine the likelihood of its success. The evaluation criteria are closely related and are considered as a whole in judging the overall quality of an application. Points are awarded only to applications which are responsive to the evaluation criteria within the context of this program announcement.

Federal reviewers will be used for the review process.

3. Anticipated Announcement and Award Dates. OCSE anticipates that successful and unsuccessful applicants will be notified of the results of this grant competition within 90 days of the application deadline date identified in the “Overview Information” section under Dates.

VI. Award Administration Information

1. Award Notices. Successful applicants will receive, by postal mail, a cover letter signed by the Commissioner, OCSE, attaching the official notice of award, the Financial Assistance Award (FAA) notice, which is signed by the grants management officer. As indicated in Part V.3. above, OCSE anticipates that successful and unsuccessful applicants will be notified of the results of this grant competition within 90 days of the application deadline.

2. Administrative and National Policy Requirements. 45 CFR part 74 and 45 CFR part 92.

3. Reporting. All grantees are required to submit quarterly program reports; grantees are also required to submit semi-annual expenditure reports using the required financial standard form (SF-269) which is located on the Internet at: http://forms.psc.gov/forms/sf/SF-269.pdf. A suggested format for the program report will be sent to all grantees after the awards are made.

VII. Agency Contacts

For copies of forms and the announcement, contact: Jean Robinson, Program Analyst, at (202) 401-5330, Fax (202) 205-4315; email, jrobinson@acf.dhhs.gov.

For questions regarding application development, forms, or program concerns regarding the announcement contact: Susan A. Greenblatt, Deputy Director, Division of State, Tribal and Local Assistance, at (202) 401-4849; e-mail, sgreenblatt@acf.dhhs.gov.

For questions regarding application submittal or other grants management concerns, contact Barbara Ziegler Johnson at (202) 401-4646; e-mail, bziegler-johns1@acf.hhs.gov.

VIII. Other Information

Funding Reconsideration. After Federal funds are exhausted for this grant competition, applications which have been independently reviewed and ranked but have no final disposition (neither approved nor disapproved for funding) may again be considered for funding. Reconsideration may occur at any time funds become available within twelve (12) months following ranking. ACF does not select from multiple ranking lists for a program. Therefore, should a new competition be scheduled and applications remain ranked without final disposition, applicants are informed of their opportunity to reapply for the new competition, to the extent practical.

Sherri Z. Heller,
Commissioner, Office of Child Support Enforcement.

[FR Doc. 03-31375 Filed 12-18-03; 8:45 am]

BILLING CODE 4184-01-P